DEPARTMENT OF HOMELAND SECURITY

Coast Guard

33 CFR Part 100

[Docket No. USCG-2022-0029]

Special Local Regulations; Recurring Marine Events, Sector St. Petersburg

AGENCY: Coast Guard, DHS.

ACTION: Notification of enforcement of regulation.

SUMMARY: The Coast Guard will enforce special local regulations for the Bradenton Area River Regatta, a high-speed Powerboating event, for February 12, 2022, to provide for the safety of life on navigable waterways during this event. During the enforcement periods, the operator of any vessel in the regulated area must comply with directions from the Patrol Commander or any designated representative.

DATES: The regulation will be enforced from 10 a.m. until 5 p.m. on February 12, 2022.

FOR FURTHER INFORMATION CONTACT: If you have questions about this notification of enforcement, call or email MST1 Michael D. Shackleford telephone 813-228-2191 option 3, email D07-SMB-Tampa-WWM@uscg.mil.

SUPPLEMENTARY INFORMATION: The Coast Guard will enforce special local regulations in 33 CFR 100.703, Table 1 to § 100.703, Line No. 2 for the Bradenton Area River Regatta on February 12, 2022 from 10 a.m. to 5 p.m. This action is being taken to provide for the safety of life on navigable waterways during this event. Our regulation for marine events, Sector St. Petersburg, § 100.703, Table 1 to § 100.703, Line No. 2, § 100.703, specifies the location of the regulated area for the Bradenton Area River Regatta which encompasses portions of the Manatee River near Bradenton, FL. During the enforcement periods, if you are the operator of a vessel in the regulated area you must comply with directions from the Patrol Commander or any designated representative.

In addition to this notice of enforcement in the Federal Register, the Coast Guard plans to provide notification of this enforcement period via the Local Notice to Mariners and/or marine information broadcasts.

Dated: February 3, 2022.
Matthew A. Thompson,
Captain, U.S. Coast Guard, Captain of the Port St. Petersburg.

[FR Doc. 2022-02894 Filed 2-9-22; 8:45 am]

BILLING CODE 9110-04-P